DEPARTMENT OF EDUCATION

Applications for New Awards; National Institute on Disability and Rehabilitation Research—Disability and Rehabilitation Research Projects and Centers Program—Minority-Serving Institution Field-Initiated Projects Program

Correction

In notice document 2013-27559 appearing on pages 69398-69402 in the issue of November 19, 2013, make the following correction:

On page 69398, in the first column, in the 21st line from the bottom, “February 18, 2014” should read “January 21, 2014”.

[FR Doc. C1-2013-27559 Filed 11-20-13; 8:45 am]

BILLING CODE 1505-01-D